DEPARTMENT OF COMMERCE

National Oceanic and Atmospheric Administration

[I.D. 081706B]

Pacific Fishery Management Council; Public Meeting

AGENCY: National Marine Fisheries Service (NMFS), National Oceanic and Atmospheric Administration (NOAA), Commerce.

ACTION: Notice of public meetings.

SUMMARY: The Pacific Fishery Management Council's (Council) Coastal Pelagic Species Advisory Subpanel (CPSAS) and Coastal Pelagic Species Management Team (CPSMT) will hold a joint work session via conference call, which is open to the public.

DATES: The CPSMT and the CPSAS will meet via conference call in a joint session on Wednesday, September 6, 2006 from 9 a.m. until business for the day is completed.

ADDRESSES: Public listening stations will be available in Portland OR and Long Beach, CA. See SUPPLEMENTARY INFORMATION for the specific locations.

Council address: Pacific Fishery Management Council, 7700 NE Ambassador Place, Suite 101, Portland, OR 97220-1384.

FOR FURTHER INFORMATION CONTACT: Mr. Mike Burner, Pacific Fishery Management Council, (503) 820-2280.

SUPPLEMENTARY INFORMATION: Public listening stations will be available at the following locations:

Pacific Fishery Management Council, 7700 NE Ambassador Place, Suite 101, Portland, OR 97220-1384, telephone: (503) 820-2280; and

National Marine Fisheries Service, 501 W Ocean Boulevard, Suite 4200, Long Beach, CA 90802, telephone: (562) 980-4000.

The primary purpose of the meeting is to review items on the Council's September 2006 agenda including research and data needs and marine protected areas within the Channel Islands National Marine Sanctuary. The CPSMT and CPSAS will develop recommendations for Council consideration at its September meeting in Foster City, CA. The status of 2006 CPS fisheries will also be discussed.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Authority: 16 U.S.C. 1801 et seq.

Dated: August 17, 2006.
James P. Burgess,
Acting Director, Office of Sustainable Fisheries, National Marine Fisheries Service.

[FR Doc. E6-13930 Filed 8-22-06; 8:45 am]

BILLING CODE 3510-22-S